DEPARTMENT OF HOMELAND SECURITY

Federal Emergency Management Agency

[Docket ID: FEMA- FEMA-2021-0029; OMB No. 1660-0072]

Agency Information Collection Activities: Submission for OMB Review; Comment Request; Mitigation Grant Programs (Including Mitigation (MT) Grants Management (Formerly Mitigation (MT) Electronic Grants (eGrants) and FEMA GO) for Flood Mitigation Assistance (FMA), Building Resilient Infrastructure and Communities (BRIC) and Pre-Disaster Mitigation (PDM)

AGENCY: Federal Emergency Management Agency, Department of Homeland Security.

ACTION: 30-Day notice of revision and request for comments.

SUMMARY: The Federal Emergency Management Agency (FEMA) will submit the information collection abstracted below to the Office of Management and Budget for review and clearance in accordance with the requirements of the Paperwork Reduction Act of 1995. This notice seeks comments concerning FEMA's Hazard Mitigation Assistance (HMA) grant programs specifically, the Pre-Disaster Mitigation Program (PDM), the Building Resilient Infrastructure and Communities (BRIC) program, and the Flood Mitigation Assistance (FMA) program. Under FEMA's HMA grant programs, State, local, Tribal, and Territorial governments (SLTTs) seek assistance to support disaster mitigation and provide opportunities to reduce or eliminate potential losses to SLTTs.

DATES: Comments must be submitted on or before July 29, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Requests for additional information or copies of the information collection should be made to Director, Information Management Division, 500 C Street SW, Washington, DC 20472, at email address FEMA-Information-Collections-Management@fema.dhs.gov or Jennie Orenstein, Branch Chief, Policy, Tools and Training Branch, Federal Insurance and Mitigation Administration, FEMA, at jennie.gallardy@fema.dhs.gov, and 202-212-4071.

SUPPLEMENTARY INFORMATION: This collection of information is necessary to implement grants for the FMA, PDM, and BRIC programs.

The FMA program is authorized pursuant to Sec. 1366, 42 U.S.C. 4104c of the National Flood Insurance Act of 1968, as amended. FMA was created as part of the National Flood Insurance Reform Act (NFIRA) of 1994, Public Law 103-325. The Biggert-Waters Flood Insurance Reform Act of 2012 (BW-12), Public Law 112-141, consolidated the Repetitive Flood Claims (RFC) and Severe Repetitive Loss grant (SRL) programs into FMA. Under FMA, cost-share requirements were changed to allow more Federal funds for properties with repetitive flood claims. The FMA program, under 44 CFR part 77 (as of October 1, 2021, previously under 44 CFR part 79), provides funding for measures taken to reduce or eliminate the long-term risk of flood damage to buildings, manufactured homes, and other structures insured under the National Flood Insurance Program (NFIP).

PDM is authorized under Sec. 203, 42 U.S.C. 5133, of the Robert T. Stafford Disaster Relief and Emergency Assistance Act (Stafford Act), Public Law 93-288, as amended by Sec. 102 of the Disaster Mitigation Act of 2000, Public Law 106-390. This 30-day FRN differs from the 60-day FRN because FEMA recently decided to resume providing grants under the PDM Program to administer congressionally directed spending for pre-disaster hazard mitigation. The PDM Program makes federal funds available to state, local, tribal, and territorial governments to plan for and implement sustainable cost-effective measures designed to reduce the risk to individuals and property from future natural hazards, while also reducing reliance on federal funding from future disasters. The purpose of the PDM Program is to administer Congressionally directed spending for pre-disaster hazard mitigation.

On August 4, 2020, FEMA established the BRIC program, implementing Section 1234 of the Disaster Recovery Reform Act (DRRA), Public Law 115-254. BRIC replaced the PDM grant program that was previously authorized under Sec. 203 of the Stafford Act, 42 U.S.C. 5133.

The BRIC program is designed to promote a national culture of preparedness and public safety through encouraging investments to protect our communities and infrastructure and through strengthening national mitigation capabilities to foster resilience. The BRIC program seeks to fund effective and innovative projects that will reduce risk, increase resilience, and serve as a catalyst to encourage the whole community to invest in and adopt policies related to mitigation.

The guiding principles of the BRIC program include: (1) support State and local governments, Tribes, and territories through capability- and capacity-building, to enable them to identify mitigation actions and implement projects that reduce risks posed by natural hazards; (2) encourage and enable innovation while allowing flexibility, consistency, and effectiveness; (3) promote partnerships and enable high-impact investments to reduce risk from natural hazards with a focus on critical services and facilities, public infrastructure, public safety, public health, and communities; (4) provide a significant opportunity to reduce future losses and minimize impacts on the Disaster Relief Fund; (5) promote equity, including by helping members of disadvantaged groups and prioritizing 40 percent of the benefits to disadvantaged communities as referenced in Executive Order (E.O.) 14008 in line with the Administration's Justice40 Initiative; and (6) support the adoption and enforcement of building codes, standards, and policies that will protect the health, safety, and general welfare of the public, taking into account future conditions, prominently including the effects of climate change, and have long-lasting impacts on community risk reduction, including for critical services and facilities and for future disaster costs. The BRIC program distributes funds annually and applies a Federal/Non-Federal cost share.

In accordance with 2 CFR 200.203, FEMA requires that all parties interested in receiving FEMA mitigation grants submit an application package for grant assistance. Applications and subapplications for BRIC, PDM and FMA are submitted via the appropriate system for the respective programs, FEMAGo and eGrants. The FEMA GO and eGrants system have been developed to meet the intent of the e-Government initiative, authorized by Public Law 106-107. This initiative requires that all Government agencies both streamline grant application processes and provide for the means to electronically create, review and submit a grant application via the internet.

In order to ensure the timely closeout of grants, 2 CFR 200.329 requires that Non-Federal Entities “must monitor its activities under Federal awards to assure compliance with applicable Federal requirements and performance expectations are being achieved.” Therefore, under 2 CFR part 200 (for BRIC and PDM) and 44 CFR 77.3 (FMA), recipients must complete and submit progress report(s) to the FEMA Regional Administrator on a quarterly basis, certifying how the funds are being used and reporting on the progress of activities funded under the subrecipient awards made to the Recipient by FEMA. The Regional Administrator and Recipient negotiate the date for submission of the first report. Quarterly Progress Reports describe the status of those projects on which a final payment of the Federal share has not been made to the Recipient, and outline any problems or circumstances expected to result in noncompliance with the approved award conditions.

This proposed information collection previously published in the Federal Register on December 14, 2021, at 86 FR 71073 with a 60-day public comment period. FEMA received two comments during this public comment period. The comments include feedback and substantive recommendations on program policy and implementation. However, the information collection is not designed to directly address changes to policy and implementation effectiveness. The comments will be reviewed and, as appropriate, considered for general program development. Thank you for the substantive comments. The purpose of this notice is to notify the public that FEMA will submit the information collection abstracted below to the Office of Management and Budget for review and clearance.

Collection of Information

Title: Mitigation Grant Programs (including Mitigation (MT) Grants Management (formerly Mitigation (MT) Electronic Grants (eGrants) and FEMA GO) for Flood Mitigation Assistance (FMA), Building Resilient Infrastructure and Communities (BRIC) and Pre-Disaster Mitigation (PDM)).

Type of Information Collection: Revision of a currently approved collection.

OMB Number: 1660-0072.

FEMA Forms: FEMA Form FF-206-FY-22-151, Quarterly Progress Report (QFR).

Abstract: FEMA's FMA and BRIC programs use an automated grant application and management system called FEMA GO. The PDM program uses an automated grant application and management system called MT e-Grants. These grant programs provide funding for the purpose of reducing or eliminating the risks to life and property from hazards. The FEMA GO and eGrants systems include all the application information needed to apply for funding under these grant programs. FEMA and SLTTs use the BRIC Panel Review Form to solicit volunteers from SLTTs and Other Federal Agencies (OFA) to review sub-applicant project applications. The volunteers will review, and score applications based on a pre-determined scoring criteria. The PDM, FMA, and BRIC programs will use the same QPR Form.

Affected Public: State, Local, Tribal, or Territorial Governments.

Estimated Number of Respondents: 660.

Estimated Number of Responses: 6,596.

Estimated Total Annual Burden Hours: 104,168.

Estimated Total Annual Respondent Cost: $6,228,883.

Estimated Respondents' Operation and Maintenance Costs: $0.

Estimated Respondents' Capital and Start-Up Costs: $0.

Estimated Total Annual Cost to the Federal Government: $7,739,695.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent Brown Wilson,
Records Management Branch Chief, Office of the Chief Administrative Officer, Mission Support, Federal Emergency Management Agency, Department of Homeland Security.

[FR Doc. 2022-13803 Filed 6-28-22; 8:45 am]

BILLING CODE 9111-BW-P